DEPARTMENT OF ENERGY

Federal Energy Regulatory Commission

[Docket No. IC00-547-000, FERC-547]

Proposed Information Collection and Request for Comments

August 29, 2000.

AGENCY: Federal Energy Regulatory Commission.

ACTION: Notice of proposed information collection and request for comments.

SUMMARY: In compliance with the requirements of section 3506(c)(2)(a) of the Paperwork Reduction Act of 1995 (Pub. L. No. 104-13), the Federal Energy Regulatory Commission (Commission) is soliciting public comment on the specific aspects of the information collection described below.

DATES: Consideration will be given to comments submitted on or before November 6, 2000.

ADDRESSES: Copies of the proposed collection of information can be obtained from and written comments may be submitted to the Federal Energy Regulatory Commission, Attn: Michael Miller, Office of the Chief Information Officer, CI-1, 888 First Street NE., Washington, DC 20426.

FOR FURTHER INFORMATION CONTACT: Michael Miller may be reached by telephone at (202) 208-1415, by fax at (202) 208-1415, and by e-mail at mike.miller@ferc.fed.us.

SUPPLEMENTARY INFORMATION: The information collected under FERC-547 “Gas Pipeline Rates: Refund Report Requirements” (OMB No. 1902-0084) is used by the Commission to implement statutory refund provisions governed by sections 4, 5, and 16 of the Natural Gas Act (NGA) (15 U.S.C. 717-717w). Sections 4 and 5 authorize the Commission to order a refund, with interest, on any portion of a natural gas company's increased rate or charge found to be not just or reasonable. Refunds may also be instituted by a natural gas company as a stipulation to a Commission-approved settlement agreement or a provision under the company's tariff. Section 16 authorizes the Commission to prescribe the rules and regulations necessary to administer its refund mandates. The Commission's refund and reporting requirements are set forth at sections 154.501 and 154.502 of the Commission's regulations (18 CFR 154.501 and 154.502). The data collected thereunder allows the Commission to monitor the refunds owned by the natural gas companies and to ensure the flow through of the refunds, with applicable interest, to the appropriate customers and ultimately to the residential customers and end users.

Action: The Commission is requesting reinstatement, without change, of the previously approved data collection for which approval expired July 31, 2000, and a three-year approval of the data. This is a mandatory information collection requirement.

Burden Statement: Public reporting burden for this collection is estimated as:

Number of respondents annually (1) | Number of responses per respondent (2) | Average burden hours per response (3) | Total annual burden hours (1)x(2)x(3)
75 | 1 | 75 | 5,625 hours.

The estimated total cost to respondents is $311,963, (5,625 hours divided by 2,080 hours per year per employee times $115,357 ¹ per year per average employee=$311,963). The cost per respondent is $3,900.

¹ The cost per year per average employee estimate is based on the annual allocated cost per Commission employee for fiscal year 2001. The estimated $115,357 cost consists of approximately $92,286 in salary and $23,071 in benefits and overhead.

The reporting burden includes the total time, effort, or financial resources expended by the respondent to assemble and disseminate the information including: (1) Reviewing the instructions; (2) developing or acquiring appropriate technological support systems needed for purposes of collecting, validating, processing, and disseminating the information; (3) administration; and (4) transmitting, or otherwise disclosing the information.

The cost estimate for respondents is based upon salaries for professional and clerical support, as well as direct and indirect overhead costs. Direct costs include all costs directly attributable to providing this information, such as administrative costs and the cost for information technology. Indirect or overhead costs are costs incurred by an organization in support of its mission. These costs apply to activities which benefit the whole organization rather than any one particular function or activity.

Comments are invited on: (1) Whether the proposed collection of information is necesssary for the proper performance of the functions of the Commission, including whether the information will have practical utility; (2) the accuracy of the agency's estimate of the burden of the proposed collection of information, including the validity of the methodology and assumptions used; (3) ways to enhance the quality, utility and clarity of the information to be collected; and (4) ways to minimize the burden of the collection of information on those who are to respond, including the use of appropriate automated, electronic, mechanical, or other technological collection techniques or other forms of information technology, e.g., permitting electronic submission of responses.

Linwood A. Watson, Jr.,
Acting Secretary.

[FR Doc. 00-22586 Filed 9-1-00; 8:45 am]

BILLING CODE 6717-01-M